DEPARTMENT OF COMMERCE

National Oceanic and Atmospheric Administration

50 CFR Part 660

[Docket No. 001215358-0358-01; 113000A]

RIN 0648-AN78

Fisheries off West Coast States and in the Western Pacific; Coastal Pelagic Species Fisheries; Annual Specifications

AGENCY: National Marine Fisheries Service (NMFS), National Oceanic and Atmospheric Administration (NOAA), Commerce.

ACTION: Final harvest guideline.

SUMMARY: NMFS announces the annual harvest guideline for Pacific sardine in the exclusive economic zone off the Pacific coast for the January 1, 2001, through December 31, 2001, fishing season. This harvest guideline has been calculated according to the regulations implementing the Coastal Pelagic Species Fishery Management Plan (FMP). The intended effect of this action is to establish allowable harvest levels for Pacific sardine off the Pacific coast.

DATES: Effective January 1, 2001, through December 31, 2001.

ADDRESSES: The report Stock Assessment of Pacific Sardine with Management Recommendations for 2001 is available from Rebecca Lent, Administrator, Southwest Region, (Regional Administrator), NMFS, 501 West Ocean Blvd., Suite 4200, Long Beach, CA 90802-4213.

FOR FURTHER INFORMATION CONTACT: James J. Morgan, Southwest Region, NMFS, 562-980-4036.

SUPPLEMENTARY INFORMATION: The FMP divides managed species into two categories: actively managed and monitored. Harvest guidelines for actively managed species (Pacific sardine and Pacific mackerel) are based on formulas applied to current biomass estimates. Harvest guidelines for monitored species (jack mackerel, northern anchovy, and market squid), which are underutilized or under the jurisdiction of the State of California, are not based on current biomass estimates, although a constant allowable biological catch (ABC) for each species is based on the long-term yield of each species.

At a public meeting each year, the biomass for each actively managed species is presented at a public meeting held by the Pacific Fishery Management Council’s (Council) Coastal Pelagic Species Management Team (Team). At that time, the biomass, the harvest guideline, and the status of the fishery is reviewed. Following review and recommendations by the Council and after hearing all public comments, NMFS publishes the annual harvest guideline in the Federal Register before the beginning of the fishing season.

On October 17, 2000, in accordance with the procedures of the FMP, the biomass report and harvest guideline for Pacific sardine were reviewed at a public meeting of the Team at the offices of the Southwest Region in Long Beach, California. A public meeting between the Team and the Council’s CPS Advisory Subpanel (Subpanel) was held the following day. The Council reviewed the report at its meeting of November 2, 2000, and heard comments from its advisory bodies and the public. No significant comments on the biomass estimate were received; therefore, the Council recommended to NMFS that the biomass and harvest guideline be announced.

The sardine population was estimated using a modified version of the integrated stock assessment model called Catch at Age Analysis of Sardine-Two Area Model (CANSAR-TAM). CANSAR-TAM is a forward-casting, age-structured analysis using fishery dependent and fishery independent data to obtain annual estimates of sardine abundance, year-class strength, and age-specific fishing mortality for 1983 through 2000. The modification of CANSAR-TAM was developed to account for the expansion of the Pacific sardine stock northward to include waters off the northwest Pacific coast. Documentation of the 2000 estimate is described in Stock Assessment of Pacific Sardine with Management Recommendations for 2001 (see ADDRESSES).

The formula in the FMP uses the following factors to determine the harvest guideline:

1. The biomass of age one sardine and above. For 2000, this estimate is 1,182,465 metric tons (mt).

2. The cutoff. This is the biomass level below which no commercial fishery is allowed. The FMP established this level at 150,000 mt.

3. The portion of the sardine biomass that is in U.S. waters. For 2000, this estimate is 87 percent, based on the average of larval distribution obtained from scientific cruises and the distribution of the resource obtained from logbooks of fish-spotters.

4. The harvest fraction. This is the percentage of the biomass above 150,000 mt that may be harvested. The fraction used varies (5-15 percent) with current ocean temperatures. A higher fraction is used for warmer ocean temperatures, which favor the production of Pacific sardine, and a lower fraction is used for cooler temperatures. For 2000, the fraction was 15 percent based on three seasons of sea surface temperature at Scripps Pier, California.

Based on the estimated biomass of 1,182,465 mt and the formula in the FMP, a harvest guideline of 134,737 mt was calculated for the fishery beginning January 1, 2001. The harvest guideline is allocated one-third for Subarea A, which is north of 35° 40' N. lat. (Pt. Piedras Blancas, CA) to the Canadian border, and two-thirds for Subarea B, which is south of 35° 40' N. lat. to the Mexican border. Any unused resource in either area will be reallocated between areas to help ensure that the optimum yield will be achieved. The northern allocation is 44,912 mt; the southern allocation is 89,825 mt.

Classification

This action is authorized by 50 CFR 660.509 and is exempt from review under Executive Order 12866.

The Assistant Administrator for Fisheries, NOAA (AA) finds for good cause under 5 U.S.C. 553(b)(B) that providing prior notice and an opportunity for public comment on this action is unnecessary because establishing the harvest guideline is an ministerial act, determined by applying formulas in the FMP. During the comment periods for Amendment 8 to the CPS FMP and its proposed rule, the public was given an opportunity to comment on these formulas.

Because this final rule merely announces the result of harvest guideline calculations and does not require any participants in the fishery to take action or to come into compliance, the AA finds for good cause under 5 U.S.C. 553(d)(3) that delaying the effective date of this final rule for 30 days is unnecessary.

Because prior notice and opportunity for public comment are not required for this action by 5 U.S.C. 553, or any other law, the analytical requirements of the Regulatory Flexibility Act, 5 U.S.C. 601 et seq., are not applicable.

Authority: 16 U.S.C. 1801 et seq.

Dated: December 20, 2000.
William T. Hogarth,
Deputy Assistant Administrator for Fisheries, National Marine Fisheries Service.

[FR Doc. 00-33005 Filed 12-26-00; 8:45 am]

BILLING CODE 3510-22-S